SMALL BUSINESS ADMINISTRATION

Public Federal Regulatory Enforcement Fairness Roundtable; Region III Regulatory Fairness Board

The Small Business Administration Region III Regulatory Fairness Board and the SBA Office of the National Ombudsman will hold a Public Roundtable on Thursday, October 30, 2003 at 8:30 a.m. at Annapolis City Council Chamber, City Hall, 2nd Floor, Duke of Gloucester Street, Annapolis, MD 21401, to provide small business owners and representatives of trade associations with an opportunity to share information concerning the federal regulatory enforcement and compliance environment.

Anyone wishing to attend or to make a presentation must contact Oliver J. Phillips in writing or by fax, in order to be put on the agenda. Oliver J. Phillips, Chief of Business Development, SBA Baltimore District Office, 10 S. Howard Street, Suite 6220, Baltimore, MD 21201, phone (410) 962-6195 x337, fax (410) 962-1805, e-mail: oliver.phillips@sba.gov.

For more information, see our Web site at http://www.sba.gov/ombudsman.

Dated: October 10, 2003.
Peter Sorum,
National Ombudsman (Acting).

[FR Doc. 03-26462 Filed 10-20-03; 8:45 am]

BILLING CODE 8025-01-P